DEPARTMENT OF ENERGY

Federal Energy Regulatory Commission

Notice of Intent To Prepare Environmental Assessments

Central Rivers Power NH, LLC | Project No. 2287-053.
Great Lakes Hydro America, LLC | Project No. 2300-052. Project No. 2311-067. Project No. 2326-054. Project No. 2327-047. Project No. 2422-058. Project No. 2423-031.

On July 29, 2022, Central Rivers Power, NH LLC filed applications for new major licenses for the 15-megawatt (MW) J. Brodie Smith Hydroelectric Project and the 2.2-MW Gorham Hydroelectric Project. On August 1, 2022, Great Lakes Hydro America, LLC filed applications for new major licenses for the 3.7-MW Shelburne Hydroelectric Project, the 4.8-MW Upper Gorham Hydroelectric Project, the 3.2-MW Cross Power Hydroelectric Project, the 7.9-MW Cascade Hydroelectric Project, the 3.2-MW Sawmill Hydroelectric Project, and the 7.9-MW Riverside Hydroelectric Project. The projects are located on the Androscoggin River in Coos County, New Hampshire. No Federal or Tribal lands occur within or adjacent to the project boundaries.

In accordance with the Commission's regulations, on July 26, 2023, Commission staff issued a notice that the projects were ready for environmental analysis (REA Notice). Based on the information in the record, including comments filed on the REA Notice, staff does not anticipate that licensing the projects would constitute a major Federal action significantly affecting the quality of the human environment. Therefore, staff will prepare a draft and final Environmental Assessment (EA) for each of the eight projects.

The EAs will be issued and circulated for review by all interested parties. All comments filed on the EAs will be analyzed by staff and considered in the Commission's final licensing decision.

The applications will be processed according to the following schedule. Revisions to the schedule may be made as appropriate.

Milestone | Target date
Commission issues draft EAs | February 2024.
Comments on draft EAs | April 2024.
Commission issues final EAs | September 2024.¹

Any questions regarding this notice may be directed to Ryan Hansen at (202) 502-8074 or ryan.hansen@ferc.gov.

¹ The Council on Environmental Quality's (CEQ) regulations under 40 CFR 1501.10(b)(1) require that EAs be completed within 1 year of the Federal action agency's decision to prepare an EA. This notice establishes the Commission's intent to prepare a draft and final EA for each of the eight projects. Therefore, in accordance with CEQ's regulations, the final EAs must be issued within 1 year of the issuance date of this notice.

Dated: October 12, 2023.
Kimberly D. Bose,
Secretary.

[FR Doc. 2023-22981 Filed 10-17-23; 8:45 am]

BILLING CODE 6717-01-P